DEPARTMENT OF HEALTH AND HUMAN SERVICES

Substance Abuse and Mental Health Services Administration

Center for Substance Abuse Prevention; Notice of Meeting

Pursuant to Public Law 92-463, notice is hereby given of the meeting of the Center for Substance Abuse Prevention (CSAP) National Advisory Council in January 2001.

The agenda will include the review, discussion and evaluation of individual grant applications and detailed discussion of information about the Center's procurement plans. Therefore a portion of the meeting will be closed to the public as determined by the Administrator, SAMHSA, in accordance with Title 5 U.S.C. 552b(c)(6) and 5 U.S.C. app. 2, section 10(d).

The agenda of the open portion will include CSAP's Director's Report, an update of CSAP's budget, SAMHSA's Administrator's Report, Council's recommendations on programs, and discussions and updates on CSAP programs, administrative matters and announcements.

If anyone needs special accommodations for persons with disabilities, please notify the contact listed below.

A summary of this meeting and roster of committee members may be obtained from Yuth Nimit, Ph.D., Executive Secretary, Rockwall II Building, Suite 910, 5600 Fishers Lane, Rockville, Maryland 20857, Telephone: (301) 443-8455.

Substantive program information may be obtained from the contact listed below.

Committee Name: Center for Substance Abuse Prevention National Advisory Council.

Meeting Dates: January 8, 2001.

Place: Embassy Suites at the Chevy Chase Pavilion, 4300 Military Road, NW., Washington, DC 20015, (202) 362-9300.

Closed: January 8, 2001, 8:30 a.m. to 10:30 a.m.

Open: January 8, 2001, 10:30 a.m. to 5 p.m.

Contact: Yuth Nimit, Ph.D., 5515 Security Lane, Rockwall II Building, Suite 910, Rockville, Maryland 20852, Telephone: (301) 443-8455.

Dated: January 2, 2001.
Toian Vaughn,
Committee Management Officer, Substance Abuse and Mental Health Services Administration.

[FR Doc. 01-472 Filed 1-8-01; 8:45 am]

BILLING CODE 4162-20-P